DEPARTMENT OF TRANSPORTATION

Pipeline and Hazardous Materials Safety Administration

Hazardous Materials: Notice of Applications for Modifications to Special Permit

AGENCY: Pipeline and Hazardous Materials Safety Administration (PHMSA), Transportation (DOT).

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 23, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on September 2, 2021.
Donald P. Burger,
Chief, General Approvals and Permits Branch.

Special Permits Data
Application number | Applicant | Regulation(s) affected | Nature of the special permits thereof
10511-M | Schlumberger Technology Corp | 173.304a | To modify the special permit to authorize an additional packaging configuration. (modes 1, 2, 3, 4, 5)
10776-M | Bevin Bros Manufacturing Company | 173.302a(a)(1), 173.304a(a)(1) | To modify the special permit to authorize additional hazardous materials. (modes 1, 2, 3, 4, 5)
13112-M | Cobham Mission Systems Orchard Park Inc | 173.302a(a)(1) | To modify the special permit to update the drawing revision number of the packaging. (modes 1, 2, 3, 4, 5)
20351-M | Roeder Cartage Company, Incorporated | 180.407(c), 180.407(e), 180.407(f) | To modify the special permit to authorize an additional cargo tank. (mode 1)
20646-M | Omni Tanker Pty. Ltd | 107.503(b), 107.503(c), 172.102(c)(3), 172.102(c)(7)(ii), 178.274(b), 178.274(c), 178.274(d) | To modify the special permit to authorize additional hazardous materials and rail freight. (modes 1, 2)
21199-M | Solvay Fluorides, LLC | 173.227(c) | To modify the special permit to remove the requirement to line the freight container with plywood. (mode 1)
21213-M | Space Exploration Technologies Corp | 172.300, 172.400, 173.302(a) | To modify the special permit to increase the number of cylinders and add additional routes. (mode 1)
21240-M | Volkswagen Group of America Chattanooga Operations, LLC | 172.101(j) | To modify the special permit to authorize an additional lithium ion battery. (mode 4)

[FR Doc. 2021-19462 Filed 9-7-21; 8:45 am]

BILLING CODE 4909-60-P